DEPARTMENT OF ENERGY

Federal Energy Regulatory Commission

Combined Notice of Filings # 1

February 5, 2008.

Take notice that the Commission received the following electric corporate filings:

Docket Numbers: EC08-40-000.

Applicants: Puget Energy, Inc.; Puget Holdings LLC; Macquarie Infrastructure Partners; Macquarie-FSS Infrastructure Trust; Macquarie Capital Group Limited; Canada Pension Plan Investment Board; British Columbia Investment Management C; Alberta Investment Management and Their

Description: Joint Application of Puget Energy, Inc and Puget Holdings, LLC et al. for Authorization of Merger and Request for Blanket Approval under Section 203 of the Federal Power Act.

Filed Date: 01/29/2008.

Accession Number: 20080201-0133.

Comment Date: 5 p.m. Eastern Time on Tuesday, February 19, 2008.

Take notice that the Commission received the following electric rate filings:

Docket Numbers: ER95-1528-018; ER96-1858-023; ER01-2659-012; ER02-2199-010; ER03-54-010; ER03-56-010; ER96-1088-045; ER03-674-012; ER99-1936-011; ER01-1114-011; ER97-2758-018; ER05-89-011; ER05-453-003.

Applicants: Wisconsin Public Service Corporation; WPS Energy Services, Inc., WPS POWER DEVELOPMENT, LLC; Combined Locks Energy Center, LLC; WPS Empire State, Inc.; WPS Beaver Falls Generation, LLC; WPS Syracuse Generation, LLC; MID-AMERICAN POWER, LLC; Quest Energy, LLC; WPS Canada Generation, Inc.; WPS New England Generation, Inc.; WPS Westwood Generation, LLC; Advantage Energy, Inc.; Upper Peninsula Power Company; Wisconsin River Power Company.

Description: Integrys Energy Group, Inc. submits a notice of change in status for market-base rate authority.

Filed Date: 01/31/2008.

Accession Number: 20080205-0203.

Comment Date: 5 p.m. Eastern Time on Thursday, February 21, 2008.

Docket Numbers: ER00-1952-005; ER04-1208-003; ER03-802-005; ER01-1784-008; ER99-1248-007; ER03-222-007.

Applicants: Black Hills Colorado, LLC; Black Hills Power, Inc.; Black Hills Wyoming, Inc; Fountain Valley Power, L.L.C.; Harbor Cogeneration Company, LLC; Las Vegas Cogeneration II, LLC.

Description: Black Hills Utilities submit notification of non-material change in status and market-based rate tariff revisions.

Filed Date: 01/30/2008.

Accession Number: 20080201-0121.

Comment Date: 5 p.m. Eastern Time on Wednesday, February 20, 2008.

Docket Numbers: ER00-3614-007; ER06-1351-002.

Applicants: BP Energy Company; BP West Coast Products LLC.

Description: BP Energy Co and BP West Coast Products LLC submits a change in status report and revisions to the market-based rate tariff.

Filed Date: 01/30/2008.

Accession Number: 20080201-0120.

Comment Date: 5 p.m. Eastern Time on Wednesday, February 20, 2008.

Docket Numbers: ER06-95-001.

Applicants: Pacific Gas and Electric Company.

Description: Compliance Refund Report (Compliance Only) of Pacific Gas & Electric Company.

Filed Date: 02/04/2008.

Accession Number: 20080204-5038.

Comment Date: 5 p.m. Eastern Time on Monday, February 25, 2008.

Docket Numbers: ER06-1014-005.

Applicants: New York Independent System Operator, Inc.

Description: New York Independent System Operator, Inc submits their Price Validation Informational Report which details corrections made for based marginal prices from the period 7/1/07 through 12/31/07.

Filed Date: 01/31/2008.

Accession Number: 20080204-0105.

Comment Date: 5 p.m. Eastern Time on Thursday, February 21, 2008.

Docket Numbers: ER07-1285-003.

Applicants: Niagara Mohawk Power Corporation.

Description: Niagara Mohawk Power Corp submits Service Agreement 1149 with a corrected rate schedule designation.

Filed Date: 01/31/2008.

Accession Number: 20080204-0108.

Comment Date: 5 p.m. Eastern Time on Thursday, February 21, 2008.

Docket Numbers: ER07-1399-001.

Applicants: PJM Interconnection, L.L.C.

Description: PJM Interconnection LLC notifies FERC of the effective dates of two executed interconnection service agreements with Connective Delmarva Generation, Inc et al.

Filed Date: 01/31/2008.

Accession Number: 20080201-0124.

Comment Date: 5 p.m. Eastern Time on Thursday, February 21, 2008.

Docket Numbers: ER08-331-002.

Applicants: Southwest Power Pool, Inc.

Description: Southwest Power Pool, Inc submits a revised executed Service Agreement for Network Integration Transmission Service with American Electric Power Service Corp et al.

Filed Date: 01/31/2008.

Accession Number: 20080204-0106.

Comment Date: 5 p.m. Eastern Time on Thursday, February 21, 2008.

Docket Numbers: ER08-333-001.

Applicants: Las Vegas Cogeneration LP.

Description: Las Vegas Cogeneration Limited Partnership submits supplements to the 12/14/07 application.

Filed Date: 01/30/2008.

Accession Number: 20080201-0123.

Comment Date: 5 p.m. Eastern Time on Wednesday, February 20, 2008.

Docket Numbers: ER08-402-001.

Applicants: San Diego Gas & Electric Company.

Description: San Diego Gas & Electric Co submits an amendment correcting the 12/31/07 filing of a change in rates for the Transmission Revenue Balancing Account Adjustment and on 2/1/08 submits three attachments to this filing.

Filed Date: 01/31/2008; 02/1/2008.

Accession Number: 20080204-0109; 20080205-0193.

Comment Date: 5 p.m. Eastern Time on Monday, February 11, 2008.

Docket Numbers: ER08-505-000.

Applicants: Xcel Energy Services Inc.

Description: Northern States Power Co submits a Notice of Termination of the Transmission Capacity and Planning Agreement between Northern States Power Co and the City of Windom, MN.

Filed Date: 01/31/2008.

Accession Number: 20080201-0125.

Comment Date: 5 p.m. Eastern Time on Thursday, February 21, 2008.

Docket Numbers: ER08-506-000.

Applicants: SOUTHERN COMPANY SERVICES.

Description: Southern Companies submit an unexecuted Network Integration Service Agreement between Florida Public Utilities Co and Southern Company Services, Inc.

Filed Date: 01/31/2008.

Accession Number: 20080201-0122.

Comment Date: 5 p.m. Eastern Time on Thursday, February 21, 2008.

Docket Numbers: ER08-507-000.

Applicants: Virginia Electric and Power Company.

Description: Virginia Electric and Power Company & Dominion Virginia Power submits notice of cancellation of Service Agreement 178 to FERC Electric Tariff, Second Revised Volume 4, to become effective 12/31/02.

Filed Date: 01/31/2008.

Accession Number: 20080204-0123.

Comment Date: 5 p.m. Eastern Time on Thursday, February 21, 2008.

Docket Numbers: ER08-508-000.

Applicants: Southwest Power Pool, Inc.

Description: Southwest Power Pool Inc. submits an executed service agreement for Firm Point to Point Transmission Service with Kansas City Power and Light Company.

Filed Date: 01/31/2008.

Accession Number: 20080204-0122.

Comment Date: 5 p.m. Eastern Time on Thursday, February 21, 2008.

Docket Numbers: ER08-509-000.

Applicants: Northeast Utilities Service Company.

Description: Northeast Utilities Service Company submits Transmission and Ancillary Services Wholesale Revenue Allocation Agreement with the Connecticut Light and Power Company et al.

Filed Date: 01/31/2008.

Accession Number: 20080204-0121.

Comment Date: 5 p.m. Eastern Time on Thursday, February 21, 2008.

Docket Numbers: ER08-510-000.

Applicants: Xcel Energy Services Inc.

Description: Northern States Power Company et al. submits Notices of Cancellation for 109 legacy point-to-point transmission service agreements, to become effective 3/31/08.

Filed Date: 01/31/2008.

Accession Number: 20080204-0120.

Comment Date: 5 p.m. Eastern Time on Thursday, February 21, 2008.

Docket Numbers: ER08-511-000.

Applicants: Southwest Power Pool, Inc.

Description: Southwest Power Pool Inc submits an executed Service Agreement for Network Integration Service with Hope Water and Light Service.

Filed Date: 01/31/2008.

Accession Number: 20080204-0119.

Comment Date: 5 p.m. Eastern Time on Thursday, February 21, 2008.

Docket Numbers: ER08-512-000.

Applicants: Southwest Power Pool, Inc.

Description: Southwest Power Pool, Inc submits an executed Service Agreement for Network Integration Transmission Services with the City of Bentonville, AR etc.

Filed Date: 01/31/2008.

Accession Number: 20080204-0118.

Comment Date: 5 p.m. Eastern Time on Thursday, February 21, 2008.

Docket Numbers: ER08-513-000.

Applicants: Entergy Services, Inc.

Description: Entergy Operating Companies submits proposed revisions to Attachment V of their Open Access Transmission Tariff, FERC Electric Tariff, Third Revised Volume 3.

Filed Date: 01/31/2008.

Accession Number: 20080204-0117.

Comment Date: 5 p.m. Eastern Time on Thursday, February 21, 2008.

Docket Numbers: ER08-514-000.

Applicants: Arizona Public Service Company.

Description: Arizona Public Service Company et al. submits revisions to Electric Rate Schedule FERC 12 and Rate Schedule FERC 68.

Filed Date: 01/31/2008.

Accession Number: 20080204-0116.

Comment Date: 5 p.m. Eastern Time on Thursday, February 21, 2008.

Docket Numbers: ER08-515-000.

Applicants: Idaho Power Company.

Description: Idaho Power Co submits an executed Large Generator Interconnection Agreement with City of Seattle.

Filed Date: 01/31/2008.

Accession Number: 20080204-0113.

Comment Date: 5 p.m. Eastern Time on Thursday, February 21, 2008.

Docket Numbers: ER08-516-000.

Applicants: PJM Interconnection, L.L.C.

Description: PJM Interconnection, LLC submits revisions to the Reliability Pricing Model of its Open Access Transmission Tariff.

Filed Date: 01/31/2008.

Accession Number: 20080204-0114.

Comment Date: 5 p.m. Eastern Time on Thursday, February 21, 2008.

Docket Numbers: ER08-517-000.

Applicants: Southern California Edison Company.

Description: Southern California Edison Co submits revised rate sheets to the Transmission Substation Facilities Agreement.

Filed Date: 01/31/2008.

Accession Number: 20080204-0112.

Comment Date: 5 p.m. Eastern Time on Thursday, February 21, 2008.

Docket Numbers: ER08-518-000.

Applicants: Southern California Edison Company.

Description: Southern California Edison Co submits revisions to their Transmission Owner Tariff, FERC Electric Tariff, Second Revised Volume 6, to be effective 4/1/08.

Filed Date: 01/31/2008.

Accession Number: 20080204-0124.

Comment Date: 5 p.m. Eastern Time on Thursday, February 21, 2008.

Docket Numbers: ER08-520-000.

Applicants: PJM Interconnection, L.L.C.

Description: PJM Interconnection, LLC submits revisions to the Credit Policy Attachment Q of their Open-Access Transmission Tariff, FERC Electric Tariff, Sixth Revised Volume 1, to become effective 4/1/08.

Filed Date: 01/31/2008.

Accession Number: 20080204-0111.

Comment Date: 5 p.m. Eastern Time on Thursday, February 21, 2008.

Docket Numbers: ER08-521-000.

Applicants: New England Power Pool.

Description: The New England Power Pool Participants Committee submits a transmittal letter along with counterpart signature pages of the New England Power Pool Agreement.

Filed Date: 02/01/2008.

Accession Number: 20080204-0110.

Comment Date: 5 p.m. Eastern Time on Friday, February 22, 2008.

Docket Numbers: ER08-522-000.

Applicants: The Midwest Independent Transmission System Operator, Inc.

Description: Midwest Independent Transmission System Operator, Inc submits a request to continue using existing revenue distribution methodology.

Filed Date: 02/01/2008.

Accession Number: 20080204-0147.

Comment Date: 5 p.m. Eastern Time on Friday, February 22, 2008.

Docket Numbers: ER08-523-000.

Applicants: PJM Interconnection, L.L.C.

Description: PJM Interconnection, LLC submits Fourth Revised Sheet 22A et al. to FERC Electric Tariff, Sixth Revised Volume 1, effective 3/1/07.

Filed Date: 02/01/2008.

Accession Number: 20080204-0146.

Comment Date: 5 p.m. Eastern Time on Friday, February 22, 2008.

Docket Numbers: ER08-524-000.

Applicants: PacifiCorp.

Description: PacifiCorp submits a revision to Exhibit F of the Amended and Restated AC Intertie Agreement, Substitute First Revised Rate Schedule FERC 368.

Filed Date: 02/01/2008.

Accession Number: 20080204-0145.

Comment Date: 5 p.m. Eastern Time on Friday, February 22, 2008.

Docket Numbers: ER08-525-000.

Applicants: PacifiCorp.

Description: PacifiCorp submits an Extension Letter Agreement for Rate Schedule 35 for Use of Facilities Agreement with the Bureau of Reclamation.

Filed Date: 02/01/2008.

Accession Number: 20080204-0144.

Comment Date: 5 p.m. Eastern Time on Friday, February 22, 2008.

Docket Numbers: ER08-526-000.

Applicants: El Paso Electric Company.

Description: El Paso Electric Co submits proposed amendments to its Open Access Transmission Tariff etc.

Filed Date: 02/01/2008.

Accession Number: 20080204-0143.

Comment Date: 5 p.m. Eastern Time on Friday, February 22, 2008.

Docket Numbers: ER08-528-000.

Applicants: PJM Interconnection, L.L.C.

Description: PJM Interconnection LLC submits First Amendment to the Settlement Agreement.

Filed Date: 01/31/2008.

Accession Number: 20080205-0209.

Comment Date: 5 p.m. Eastern Time on Thursday, February 21, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E8-3506 Filed 2-22-08; 8:45 am]

BILLING CODE 6717-01-P